DEPARTMENT OF COMMERCE

National Oceanic and Atmospheric Administration

50 CFR Part 679

[I.D. 010302B]

Groundfish Fisheries of the Bering Sea and Aleutian Islands Area and the Gulf of Alaska, King and Tanner Crab Fisheries in the Bering Sea/Aleutian Islands, Scallop and Salmon Fisheries Off the Coast of Alaska

AGENCY: National Marine Fisheries Service (NMFS), National Oceanic and Atmospheric Administration (NOAA), Commerce.

ACTION: Notification of preliminary alternative approaches for essential fish habitat (EFH) and habitat areas of particular concern (HAPC); request for written comments.

SUMMARY: NMFS announces preliminary alternative approaches for the designation of EFH and HAPC for the following fishery management plans (FMPs): Groundfish Fishery of the Bering Sea and Aleutian Islands Area; Groundfish of the Gulf of Alaska; Bering Sea/Aleutian Islands King and Tanner Crabs; Scallop Fishery off Alaska; and Salmon Fisheries in the EEZ off the Coast of Alaska.

DATES: Written comments on the preliminary alternative approaches for EFH and HAPC must be received by close of business on January 22, 2002 (see ADDRESSES).

ADDRESSES: Written comments on the preliminary alternative approaches for identifying and describing EFH and HAPC should be submitted to Theodore F. Meyers, Assistant Regional Administrator, Habitat Conservation Division, Alaska Region, NMFS, P.O. Box 21668, Juneau, AK 99802-1668, Attn: Lori Durall, Records Management Office. Comments may be sent via facsimile (fax) to (907) 586-7557. Comments will not be accepted if submitted via e-mail or Internet. Courier or hand delivery of comments may be made to NMFS in the Federal Building, Room 453, 709 West 9th Street, Juneau, AK.

FOR FURTHER INFORMATION CONTACT: Cindy Hartmann at (907) 586-7235.

SUPPLEMENTARY INFORMATION: On June 6, 2001, NMFS published a notice of intent to prepare an SEIS for the EFH components of the following management plans: Groundfish Fishery of the Bering Sea and Aleutian Islands Area; Groundfish of the Gulf of Alaska; Bering Sea/Aleutian Islands King and Tanner Crabs; Scallop Fishery off Alaska; and Salmon Fisheries in the EEZ off the Coast of Alaska (66 FR 30396). NMFS requested written comments and gave notice of scoping meetings.

The proposed action to be addressed in the SEIS is the development of the mandatory EFH provisions of the affected FMPs as described in section 303 (a)(7) of the Magnuson-Stevens Fishery Conservation and Management Act (Magnuson-Stevens Act) and based on the guidance in the EFH regulations at 50 CFR 600 Subpart J. The following three types of actions will be specifically analyzed: (1) identify and describe EFH for managed species; (2) identify HAPCs within EFH; and (3) minimize, to the extent practicable, adverse effects on EFH caused by fishing. The scope of the new SEIS will cover all of the required EFH components of FMPs. The SEIS will supersede the environmental assessment (EA) previously prepared in support of the EFH amendments to the FMPs listed above.

In June 2001, NMFS held public scoping meetings in six communities. Written comments were accepted through July 21, 2001. A preliminary draft scoping report was available at the October 2001 Council meeting. NMFS held a technical workshop from November 6 through 8, 2001, to develop alternative approaches for the designation of EFH and HAPC. Alternative approaches for the designation of EFH and HAPC were developed based on significant issues raised during the scoping process. Recommendations for EFH and HAPC alternative approaches developed at the workshop were given to the Council’s EFH Committee. NMFS, Council staff, and the EFH Committee presented potential draft alternative approaches for EFH and HAPC to the Council at its December 10, 2001, meeting. The Council adopted the EFH Committee’s preliminary EFH and HAPC alternative approaches and will further develop EFH and HAPC alternative approaches and criteria at the February Council meeting. Other EFH and HAPC issues and questions will be discussed, such as HAPC site specific proposals and how to proceed with identifying fishing gear effects and possible measures to minimize those effects. The EFH and HAPC alternative approaches contained in the SEIS will then be analyzed further using the best available data to identify areas under the various approaches.

Alternative Approaches for Designation of EFH

The Magnuson-Stevens Act defines EFH as “those waters and substrate necessary to fish for spawning, breeding, feeding, or growth to maturity.” For purpose of interpreting the definition of EFH: “Waters” include aquatic areas and their associated physical, chemical, and biological properties that are used by fish and may include aquatic areas historically used by fish where appropriate; “substrate” includes sediment, hard bottom, structures underlying the waters, and associated biological communities; “necessary” means the habitat required to support a sustainable fishery and the managed species’ contribution to a healthy ecosystem; and “spawning, breeding, feeding, or growth to maturity” covers a species full life cycle. Four levels were identified to organize information necessary to describe and identify EFH. These four levels are: (1) Level 1: only distribution data are available to describe the geographic range of a species or life stage; (2) Level 2: quantitative data (i.e., density or relative abundance) are available for the habitats occupied by a species of life stage; (3) Level 3: data are available on habitat-related growth, reproduction, and/or survival by life stage; (4) Level 4: data are available that directly relate the production rates of a species of life stage to habitat type, quantity, quality, and location.

The Council is considering the following preliminary alternative approaches for the designation of EFH:

Alternative 1: no action, no EFH designation. The Council’s action resulting from this alternative approach would be to change the FMPs from the current EFH amendment measures. This alternative approach is included to comply with the National Environmental Policy Act.

Alternative 2: status quo. EFH is defined on a species by species basis based on the general distribution of individual species and their life stages. Level 0 to 2 information levels are used in this alternative.

Alternative 3: species-based approach. EFH for each species or species group and life stage is separately designated. This alternative approach dictates that EFH be designated on the basis of the highest level of information available.

Alternative 4: ecosystem/habitat-based approach. This alternative approach specifies EFH designations relative to classification of habitat types occurring in the region and the assemblages of species and lifestages associated with them. Habitat types would be defined into stages by the relevant physical and biotic data, including depth, substrate, and structure forming biota.

Alternative 5: core area-based approach. Designation of EFH for this alternative approach is limited to those core areas known to be critical to the production of species or species groups.

Alternative 6: exclusive economic zone (EEZ) waters approach. Under this alternative approach, EFH for FMP species is not designated in freshwater, estuarine or nearshore marine waters, and is designated only in waters of the EEZ.

Alternative Approaches for Designation of HAPC

HAPC are subsets of EFH. HAPC are those areas of special importance that may require additional protection from adverse effects. HAPC are defined on the basis of the ecological importance, sensitivity to human-induced environmental degradation, stress to the habitat from development activities, and rarity of the habitat.

The EFH Steering Committee recommends the following nomenclature be used for HAPC’s: HAPC Category - Classification of HAPC type or site using established criteria; HAPC Area - can refer to either habitat “type” or “site”; HAPC Type - general habitat description (e.g., corals, pinnacles); HAPC Site - can be stand-alone geographic location selected from HAPC criteria.

The Council is considering the following preliminary alternative approaches for the designation of HAPC:

Alternative 1: no action, no HAPC designation.

Alternative 2: status quo. The EFH amendments to the five Council FMPs listed above identified 3 types of habitat as HAPC (living substrates in shallow water, living substrates in deep waters, and freshwater areas used by anadromous fish) but did not map or designate specific areas as HAPC.

Alternative 3: species distribution, core-based approach. This alternative approach assumes that the distribution and abundance of species are indicators of critically important habitat types or sites that require special protection. As information between habitat and FMP species or ecosystem productivity becomes available, HAPC could be refined to a core habitat.

Alternative 4: habitat-eco-region/ecological based approach. HAPC alternative approach 4 identifies habitat types or sites of ecological significance within eco-regions tiering down from EFH alternative approach 4. This alternative approach incorporates both habitat types and site specific designations and allows for different management actions among types and sites within regions.

Alternative 5: site-specific based approach. HAPC alternative approach 5 assumes that individual sites meeting one or more of the HAPC criteria may be designated as HAPC sites, which would require specific management objectives.

Alternative 6: type-site based approach. HAPC alternative approach 6 establishes HAPCs as individual sites selected from a sub-set of HAPC types.

More detailed information on these alternatives can be found on the Council and NMFS, Alaska Region, web sites. Links to these sites can be found at: http://www.fakr.noaa.gov.

Public Involvement

NMFS will work with the Council throughout the development of the SEIS. The Council has formed an EFH Committee to act as a steering committee for the EFH SEIS process and to facilitate public and Council input to the SEIS process. The public will be able to provide oral and written comments on EFH at Council meetings.

A principal objective of the public involvement process is to identify a reasonable range of management alternatives that, with adequate analysis, will sharply define critical issues and provide a clear basis for defining those alternatives and choosing the preferred alternative. NMFS invites specific public comment on the preliminary alternative approaches for the designation of EFH and HAPCs for Council-managed species, on possible combinations of EFH and HAPC alternative approaches, and on the scientific basis for EFH and HAPC designations. NMFS also solicits any new information related to the impacts of fishing and non-fishing activities on EFH and HAPCs for fishery resources managed under the Council’s FMPs and possible management measures designed to minimize adverse effects of fishing and non-fishing activities on EFH.

Authority: 16 U.S.C. 1801 et. seq.

Dated: January 4, 2002.
John M. Kurland
Acting Director, Office of Sustainable Fisheries, National Marine Fisheries Service.

[FR Doc. 02-644 Filed 1-9-02; 8:45 am]

BILLING CODE 3510-22-S